DEPARTMENT OF EDUCATION

Secretary of Education's Commission on Opportunity in Athletics

AGENCY: Secretary of Education's Commission on Opportunity in Athletics; Department of Education.

ACTION: Notice of open meeting; correction.

SUMMARY: On November 22, 2002 (67 FR 70416) a notice of the schedule and proposed agenda of a forthcoming public meeting of the Secretary of Education's Commission on Opportunity in Athletics (the Commission) was published in the Federal Register. This notice corrects the earlier notice to add an additional date, time, and location to the notice of meeting as follows:

DATES: December 3-4, 2002.

Location: Philadelphia Marriott. 1201 Market Street, Philadelphia, PA.

Times: December 3: 1 p.m.-8 p.m.; December 4: 9 a.m.-12:30 p.m., 2 p.m.-5 p.m.

Notice of this meeting is required under Section 10(a)(2) of the Federal Advisory Committee Act.

All other information in the November 22nd notice remains the same.

ADDRESSES: The Secretary of Education's Commission on Opportunity in Athletics, 400 Maryland Avenue, SW., ROB-3 Room 3060, Washington, DC 20202.

FOR FURTHER INFORMATION CONTACT: See the Commission address under the ADDRESSES section of this notice. View the Commission's Web site at: http://www.ed.gov/inits/commissionsboards/athletics. The Commission office number is 202-708-7417.

Electronic Access to This Document

You may view this document, as well as all other Department of Education documents published in the Federal Register, in text or Adobe Portable Document Format (PDF) on the Internet at the following site: http://www.ed.gov/legislation/FedRegister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.access.gpo.gov/nara/index.html.

Dated: November 25, 2002.
Rod Paige,
Secretary of Education.

[FR Doc. 02-30375 Filed 11-27-02; 8:45 am]

BILLING CODE 4000-01-P